SMALL BUSINESS ADMINISTRATION

Region V—Wisconsin District Advisory Council; Public Meeting

The Small Business Administration Region V Wisconsin District Advisory Council, located in the geographical area of Milwaukee, Wisconsin, will hold a public meeting at 12:00 a.m. central time on Wednesday, January 16, 2002, at the Metro Milwaukee Area Chamber 756 North Milwaukee Street Fourth floor, Milwaukee Wisconsin, 53202 to discuss such matters as may be presented by members, staff of the Small Business Administration, or others present.

Anyone wishing to make an oral presentation to the Board must contact Yolanda Staples. Lassiter Economic Development Assistant, in writing by letter or fax no later than January 14, 2002, in order to be put on the agenda. Yolanda Staples Lassiter, Economic Development Assistant, Small Business Administration 310 West Wisconsin Ave, Suite 400, Milwaukee, Wisconsin 53203 (414) 297-1090 phone (414) 297-3928 fax.

Steve Tupper,
Committee Management Officer.

[FR Doc. 02-931 Filed 1-14-02; 8:45 am]

BILLING CODE 8025-01-P